DEPARTMENT OF LABOR

Employment and Training Administration

Disability Employment Grant Program Funded Under the Workforce Investment Act Title I

AGENCY: Employment and Training Administration (ETA), Labor.

ACTION: Notice of availability of funds and solicitation for grant applications (SGA).

This Notice Contains All of the Necessary Information and Forms Needed to Apply for Grant Funding.

SUMMARY: The U.S. Department of Labor, Employment and Training Administration (DOL/ETA), announces the availability of approximately $6 million in competitive grant funds for multi-state employment and training projects serving people with disabilities. This skill training grant program is funded using Workforce Investment Act Title I, section 171 funds and targets projects providing multi-site training and other employment services to individuals with disabilities that result in long-term, unsubsidized employment.

DATES: The closing date for receipt of applications under this announcement is December 21, 2001 at 4 p.m. Eastern Standard Time (EST) at the address below:

ADDRESSES: Applications must be mailed to the U.S. Department of Labor, Employment and Training Administration, Division of Federal Assistance, Attention: Jacquelyn Carter, SGA/DFA 02-100. 200 Constitution Avenue, NW, Room S-4203, Washington, DC 20210.

FOR FURTHER INFORMATION CONTACT: Questions should be faxed to Jacquelyn Carter at 202-693-2879 (this is not a toll-free number). All inquiries should include the SGA number DFA-02-100, and a contact name, fax, and telephone numbers. This solicitation is also being published on the Internet at ETA's home page at http://www.doleta.gov and at ETA's disAbility Online website at http://wdsc.doleta.gov/disability/ (click on “Grantee Communication” to access these forms). Award notifications will also be published on both the ETA home page and the disAbility Online website.

SUPPLEMENTARY INFORMATION:

A. Authority

Funds made available for this Solicitation for Grant Applications are authorized under the Workforce Investment Act of 1998, section 171 (b), (c) and (d). Approximately $6 million of the total funds available for this grant award are dislocated worker demonstration and pilot project funds.

This announcement consists of five parts:

Part I—Application Process

Part II—Background and Purpose

Part III—Review Process, Evaluation Criteria and Statement of Work

Part IV—Government Requirements, and

Part V—Definitions

Part I—Application Process

A. Eligible Applicants

Private non-profit entities, including faith-based organizations, are eligible to receive grant funds under this award. Non-profit disability organizations with national scope and the capacity to administer multi-state training and employment programs are encouraged to apply. Entities described in section 501(c)(4) of the Internal Revenue Code that engage in lobbying activities are not eligible to receive funds under this SGA. The Lobbying Disclosure Act of 1995 as amended, 2 U.S.C. 1611 prohibits the award of federal funds to 501(c)(4) entities engaged in lobbying activities. Applicants are encouraged to include partnerships with community-based and faith-based organizations at the local level. Such partnerships should be clearly identified in the application.

Applicants must operate or propose to operate in two or more states. Applicants should provide documentation of knowledge and/or experience in the following areas:

—Overcoming barriers to employment experienced by individuals with disabilities;

—ability to conduct training, placement, and follow-up services; and

—management and accountability structure necessary to ensure the integrity of the funds requested (by meeting the standards for financial management and participant data systems as specified in 29 CFR part 95). Only one proposal per applicant/organization(s) is permitted. If an applicant/organization submits two separate proposals, both proposals will be rejected.

B. Submission of Proposals

Applicants must submit three (3) copies with original signatures. A proposal shall consist of two (2) separate and distinct sections: Section I—Financial Proposal and Budget Information Form; and Section II—Technical Proposal.

Section I, the Financial Proposal shall contain the SF-424, “Application for Federal Assistance,”(Appendix A), and Budget Information Form (Appendix B). In addition, the budget shall include on a separate page a detailed cost analysis of each line item. Administrative costs cannot exceed 15 percent of total proposed costs. Administrative costs are those identified in 20 CFR 667.220. Approval of a budget by DOL is not the same as approval of actual costs. The Catalog of Federal Domestic Assistance number is 17.261. Applicants shall indicate on the SF-424 the organization's IRS status, if applicable. According to the Lobbying Disclosure Act of 1995 as amended, 2 U.S.C. 1611, an organization described in section 501(c)(4) of the Internal Revenue Code of 1986 which engages in lobbying activities shall not be eligible for the receipt of federal funds constituting an award, grant or loan. The individual signing the SF-424 on behalf of the applicant must represent the responsible financial and administrative entity for a grant should that application result in an award. The budget must include, on a separate page, a detailed breakout of each line item.

Section II, the Technical Proposal, will demonstrate the applicant's capabilities in accordance with the Statement of Work in Part III of this solicitation. This must be organized to follow the evaluation criteria. No cost data or reference to costs shall be included in the Technical Proposal.

In addition, the Technical Proposal shall be limited to 20 doubled-spaced, single-side, 8.5 inch x 11 inch pages with 1 inch margins. Appendices shall not exceed 20 pages, and may include charts, graphs, staff resumes, composition of advisory boards, and other supporting documents. Text type shall be 12 point or larger. Applications not meeting these requirements will not be considered. The Technical Proposal must also contain participant, activity and outcome information, and must include the process the applicant will use for implementing the project and a timeline outlining the project activities.

C. Hand Delivered Proposals

It is preferred that applications be mailed at least five days before the closing date (see “Late Proposals” section below). To be considered for funding, hand delivered proposals must be received at the address identified above by 4 p.m. (Eastern Standard Time) December 21, 2001. All overnight express mail will be considered to be hand delivered and must be received at the designated place by the specified time on the closing date. Grant applications transmitted by electronic mail, telegraph or facsimile will not be considered. Failure to adhere to the above instructions will be a basis for a determination of non responsiveness.

D. Late Proposals

Any application received after the exact date and time specified for receipt at the office designated in this notice will not be considered, unless it is received before awards are made and it was sent by U.S. Postal Service registered or certified mail not later than the fifth calendar day before the date specified for receipt of applications (e.g., an application submitted in response to a solicitation requiring receipt of applications by the 20th of the month must have been mailed/post marked by the 15th of that month); or was sent by the U.S. Postal Service Express Mail Next Day Service, Post Office to Addressee, not later than 5 p.m. at the place of mailing two working days prior to the deadline date specified for receipt of applications in this SGA. The term “working days” excludes weekends and Federal holidays.

The “post mark” only acceptable evidence to establish the date of mailing of an application received after the deadline date for the receipt of proposals sent by the U.S. Postal Service and on the original receipt from the U.S. Postal Service. The term “post marked” means a printed, stamped or otherwise placed impression (exclusive of a postage meter machine impression) that is readily identifiable, without further action, as having been supplied or affixed on the date of mailing by an employee of the U.S. Postal Service.

E. Withdrawal of Applications

Applications may be withdrawn by written notice or telegram (including mail gram) received at any time before an award is made. Applications may be withdrawn in person by the applicant or by an authorized representative thereof, if the representative's identity is made known and the representative signs a receipt for the proposal.

F. Scope of Award

DOL/ETA anticipates making awards that range from $300,000 to $500,000. Proposals with costs exceeding $500,000 will not be considered. WIA Title I Dislocated Worker funds are included in the total funds available. Therefore, some awards will be funded in whole, or in part, with WIA Title I Dislocated Worker funds based on the extent to which the proposal is targeted to disabled individuals who also qualify as a dislocated worker under Title I (see Definitions). Awards will be made on a competitive basis.

G. Period of Performance

The initial period of performance will be twelve (12) months from the date of execution by the Government. The Department may elect to exercise its option to extend these grants for up to two additional option years for a total not to exceed 36 months based on (1) the availability of funds, (2) grantee performance including achieving a 50% placement rate during the grant period, and (3) project needs. The Department reserves the right to impose additional requirements or refinements in program design if the project is extended for a second and/or third year grant period.

Part II. Background and Purpose

A. Background

DOL/ETA has provided grant awards to non-profit organizations that provide employment and training services to persons with disabilities for the past twenty-five years. Disability Employment Grants totaling $6.8 million were awarded in 1998 to fifteen organizations for a three year grant period using Job Training Partnership Act (JTPA) Title III and IV funds. During the FY 1999 grant period, Disability Employment Grants served more than 3,500 individuals with disabilities and placed 1,500 in unsubsidized, competitive employment. The Disability Employment Grant program is now authorized under WIA at section 171 (b), (c) and (d), 29 USC 2801(31).

This initiative builds upon other ETA initiatives, including the Work Incentive Grants, which are designed to enhance service delivery throughout the National One-Stop delivery system for people with disabilities, and the Disability Information Technology (IT) Initiative, which focuses on expanding opportunities for information technology training and improving access to employment in the information technology industry for people with disabilities. It is also supportive of President Bush's New Freedom Initiative by increasing workforce, employment, and educational opportunities for people with disabilities, as well as increasing access to assistive and universally designed technologies. This includes support of Executive Order 13217: Community-Based Alternatives for Individuals with Disabilities.

For more information on ETA funded grants and other ETA initiatives addressing the employment of people with disabilities, visit ETA's disAbility Online web site at: http://wdsc.doleta.gov/disability/.

Several other grant initiatives totaling $10.3 million have been awarded from the Department of Labor's Office of Disability Employment Policy (ODEP). These include Customized Employment Grants, Innovative Demonstration Programs for WIA-assisted Youth, High-School/High Tech Start-up and Realignment Grants, a WIA Disability Technical Assistance Consortia Grant and Disability Youth Consortia Grant. The Customized Employment Grants are distinct from ETA's Disability Employment Grants in that their focus centers on getting local Workforce Investment Boards to develop comprehensive, strategic, and cutting-edge models of service delivery for individuals with disabilities who have never been employed, whose experience is limited to subsidized employment, or who have traditionally been considered unemployable. Please go to: http://www.dol.gov/dol/odep/ for more information on the ODEP grants and other programs administered by ODEP.

While the unemployment rate remains at less than 5 percent, the unemployment rate for working-age adults with disabilities has remained at approximately 70 percent for at least the past 12 years. Only 26 percent of working age adults with significant disabilities have a job or a business compared to 82 percent of those without disabilities (U.S. Bureau of the Census, Survey of Income and Program Participation, 1997), and among workers with college degrees only 52 percent of those with severe disabilities reported labor market activity compared to 90 percent of those with no disability—a gap of 38 percentage points.

Title IV of the Workforce Investment Act, which amends the Rehabilitation Act, included several findings relating to ethnic and racial minorities as traditionally under-served populations in the vocational rehabilitation system (29 U.S.C. 718). Ethnic and racial minorities tend to have disabling conditions at a disproportionately high rate. The rate of work-related disability for Native Americans is about one and one-half times that of the general population. African-Americans are also one and one-half times more likely to be disabled than whites and twice as likely to be significantly disabled. According to the U.S. Census Bureau's 1994-1995 data, approximately 85.5 percent of African-Americans with severe disabilities and 75.4 percent of Hispanics with severe disabilities are not working. Among the reasons for the disproportionately high rate of unemployment are disparities in the services provided to minorities with disabilities, fewer educational opportunities, poor outreach to minority communities, and inadequate transportation and housing.

B. Purpose

The primary purpose of this multi-state Disability Employment Grant award is to implement strategies to improve long term quality employment outcomes, and skills attainment that address the needs of people with disabilities, particularly those with severe disabilities. In this program, the quality of employment outcomes is more important than the number of placements. At the same time, grant entities will be held accountable for achieving minimum placement goals identified in this SGA.

Of particular importance are skills and employment training that enable individuals to move to unsubsidized employment. Innovation, coordination, and partnerships, non-duplication of existing services, and leveraging of scarce resources are also important factors. In addition, DOL is interested in identifying successful project designs that can be shared and replicated as state workforce system changes proceed. Therefore, applications should represent strong linkages with adult, dislocated worker and youth programs operating under the WIA such as Job Corps, Youth Opportunity Grants, Migrant and Seasonal Farm Worker programs and Indian and Native American programs.

DOL has identified the following priorities for the purposes of this SGA:

• Strategies for high quality, long term employment of racial and ethnic minorities with significant disabilities;

• Strategies for employment of SSI and SSDI beneficiaries;

• Strategies for community-based alternatives for individuals with disabilities that support Executive Order 13217;

• Innovative approaches utilizing technology, including assistive technology, innovative training and workplace strategies or other approaches (e.g., distance learning, telecommuting, and self employment and small business ownership) which result in significant employment outcomes;

• Program designs which incorporate integrated service delivery for people with disabilities in One-Stop Center WIA Title I programs;

• Strategies involving strong ties to, and commitment from, corporate and business entities; and

• Service delivery which emphasizes on-the-job training and internship approaches in corporate and business environments.

Other areas that may be addressed in the application include: linkages with other public (national, state and local) and/or private delivery systems; linkages with disability consumer organizations (e.g., independent living centers), and with other entities that address significant employment barriers, and linkages with existing service strategies that build on and facilitate other systemic changes impacting individuals with disabilities (e.g., DOL Work Incentive Grant programs, Welfare-to-Work implementation, Medicaid Infrastructure Grants).

Part III. Review Process, Evaluation Criteria and Statement of Work

A careful evaluation of applications will be made by a technical review panel who will evaluate the applications against the established criteria listed in this SGA. The panel results are advisory in nature and are not binding on the Grant Officer. The Grant Officer may consider any information that comes to his or her attention, and will make final award decisions based upon what is most advantageous to the Federal Government in terms of geographic mix, technical quality, justification and evidence of the ability to perform activities included in the management and design of the projects, and the applicant's past performance. The Government may elect to award the grant with or without discussions with the offeror. In situations without discussions, an award will be based on the applicant's signature on the SF-424, which constitutes a binding offer.

Proposals will be evaluated against the following criteria:

A. Project Design—Activities and Outcomes (40 points)

B. Coordination and Linkages (20 points)

C. Disability Employment Grant Participants (20 points)

D. Management and Administration (20 points)

A. Project Design—Activities and Outcomes (40 points)

1. Purpose and Scope of the Project

Describe the specific purpose or purposes of the proposed project. Explain how the proposed project will be applicable to disability issues of national scope. Describe the potential for replication in adult, dislocated worker, and WIA national programs under the WIA Title I. Explain the impact of the project on the One-Stop Center system.

Describe how faith-based organizations will be included as partners in outreach and service delivery or whether there will be sub-grants or contracts with local faith-based entities.

Project designs should include local community demonstration sites in two or more states and identification of successful employment and career strategies for specific or multiple types of disabling conditions. Projects should be designed to: test the effectiveness of project strategy in diverse state systems and potential for replication; build on a variety of National efforts involving individual state workforce development systems; and allow for analysis of different state/local service structures. Minimum cost per site shall be $75,000.

2. Training and Supportive Services

The program design should describe core, intensive and training services to be provided from the time of participant selection through placement in unsubsidized employment and follow-up. The design should describe in detail the kinds of training that will be offered, the method by which the training will be provided, and whether training will culminate in certification.

Design description should include a rationale for additional activities and services in terms of overall project design, overcoming employment barriers of planned participants, and achieving quality employment outcomes. Narratives should provide a clear understanding of services and supports needed for successful placement and job retention.

The program design must provide information on planned activities, placement, and services to participants, including the number of planned participants to be served. Identify what types of core, intensive and training services will be provided to participants. Identify what other sources of funds will be leveraged for training or supportive services to participants as part of the overall project design but will not be funded by the ETA Disability Employment Grant (e.g. Individual Training Accounts, Youth Opportunity, Vocational Rehabilitation, or Adult Literacy funds) must also be identified.

Project designs must include on-the-job training and internship or self-employment strategies. Project design must describe why these are effective strategies for the client group being served and how many participants are expected to receive specific services (e.g., how many will be in on-the-job training). Private sector employer commitment to on-the-job positions should be identified.

The design description must also include strategies related to training in the information technology skills sector, such as software design, network applications, and service repair technicians. The description provided should be clear on the complexity of the training and expectations for higher salaried employment outcomes with longer range career potential. Please note, training on Microsoft WORD, Word Perfect, Lotus or other basic computer familiarity training is not sufficient to meet this criterion.

3. Employment Outcomes

Available Jobs. Based on labor market information, project design should describe the types of jobs that are expected to be available to participants upon completion of training and placement services, including prevailing wage levels, career potential, and opportunities for advancement. Information on the number and type of jobs and the availability of qualified workers must also be included. The project design should also identify how and why job placement and retention for participant group will more likely occur as a result of the proposed project. Sources of labor market information should be identified, and may include the Bureau of Labor Statistics, O*NET, America's Career Kit, State Occupational Information Coordinating Committees. Other sources of information may include business and trade associations, employers, and other representatives of the local business community.

Planned Placements. The project design must indicate how many placements in unsubsidized, competitive employment are expected to result from activities at each site. The quality of job placements in terms of entry wage or salary levels, long-term career potential, and the long-term growth of the occupations under consideration in the local area, must also be described. Information on participant flow from intake to assessment, to placement should be provided indicating clearly when placement will occur. Program design should also include a plan for post-placement follow-up at 90 days, 180 days, and 12 months.

Planned outcome information should be provided, including site specific information on: (1) Number of terminees completing program; (2) number of placements in unsubsidized employment; (3) number of placements in full time employment (35 hours per week or more); and (4) the average hourly wage, and placements with durations of 180 days or more. This information should include planned employment outcomes for SSI/SSDI beneficiaries and the impact of the employment on their ability to leave SSI/SSDI benefit rolls.

Applicants are requested to describe methods of ongoing assessment of “customer satisfaction” and how results will be used in project operation. The Department of Labor expects that applicants will achieve an entered employment rate of 50 percent. Continued project funding will take achievement of this goal into account. Grantees will be required to submit quarterly Activity and Placement Reports (APR) on the number of participants being served, activities and services provided, and placement outcomes (see Part IV. Government Requirements). Disability Employment Grant reporting requirements are provided under the “Grantee Communications” section of the disAbility Online web site at: http://wdsc.doleta.gov/disability/

Special Wage Waivers Under Fair Labor Standards Act. Employment in jobs, and/or related training, approved for Special Minimum Wage Certificates under section 14(c) of the Fair Labor Standards Act (FLSA), as amended (29 U.S.C. 214) and its implementing regulations at 29 CFR part 525 will not be considered as an allowable activity or outcome. Organizations receiving FLSA special wage certifications must provide assurances and verification that FLSA special wage training and placement are not incorporated within proposed project design. Employment outcomes should be at the prevailing wage and under no circumstances, below the applicable Federal or State minimum wage, whichever is higher.

Because the information technology industry currently represents close to 50 percent of the nation's economic growth, applicants should consider how they might initiate the development of new collaborative processes at the regional and local levels, thereby leveraging private sector, school, and local government resources in order to expand workplace opportunities for individuals with disabilities.

B. Coordination and Linkages (20 points)

Descriptions must detail any linkages with State and Local Workforce Investment Boards, State/local One-Stop Career Center systems, Adult, Dislocated Worker and Youth programs authorized under the Workforce Investment Act, Job Corps Centers, Welfare-to-Work programs, Department of Education programs such as Vocational Rehabilitation, and training programs authorized under the U.S. Department of Housing and Urban Development and under the Department of Agriculture. Proposals must demonstrate a significant integration of services to people with disabilities in the One-Stop system, such as using Individual Training Accounts to support training objectives, joint funding of on-the-job training by One-Stop partner programs, including Vocational Rehabilitation, or other significant collaborative activities which leads to integrated services for people with disabilities in One-Stop Centers.

Applicants should indicate the impact of the proposed project on system changes underway and how non-grant funds are being leveraged. Funds or resources to be contributed to the project by the applicant and/or partnership entities should also be identified. Applications should provide information on how the project adds value to the workforce system from a national perspective (e.g., fills a gap in policy or service delivery approach), and the potential for replication and dissemination to the workforce system at large.

The design description should address the role of apprenticeship programs under the U.S. Department of Labor's Apprenticeship Training, Employment and Labor Services (ATELS), if applicable. It should also describe the role of the business community, including business advisory councils, State or Local Business Leadership Networks (BLNs) and labor organizations to the project if applicable, the extent to which they may provide internships or possible employment for successful participants, the extent to which they may serve as mentors, and their input into decisions on training and identification of trends and skill shortages. Applications demonstrate a strong commitment by the corporate and business sector to provide on-the-job training, internships, mentoring or other substantive contributions to the grant project.

Other coordination efforts should address major employment obstacles such as insufficient medical coverage and/or other barriers to employment (e.g., transportation, personal assistance needs, and housing). Evidence should be presented demonstrating the cooperation of coordinating entities and the program design should include a reasonable method of assessing and reporting on the impact of that coordination. Consultation with and/or review by appropriate labor organizations is encouraged and should be documented.

Applicants should describe linkages to DOL's Work Incentive Grant programs, new programs available through DOL's Office on Disability Employment Policy if applicable, and other work incentive programs (e.g., programs under Social Security's Ticket to Work and Work Incentives Improvement Act, and Medicaid Infrastructure Grants).

C. Disability Employment Program Participants (20 points)

1. Target Population

Participants for the proposed project must be individuals with disabilities (i.e., physical, sensory, emotional, or mental functional impairments) as defined in section 3 of the Americans with Disabilities Act at 42 U.S.C. 12102. The characteristics of the client population to which the proposal is targeted should be described as applicable in terms of: (1) Specific type(s) of disability, (e.g., psychiatric disorders, neurologic disorders); (2) specific subgroup of disabled population, (e.g., minority, youth, older workers); (3) why the project design will result in quality career and/or employment outcomes; and (4) what innovative and coordinated approaches will be used to serve the target population. It is anticipated that a significant percentage of the population will require the use of assistive technology in both training and in the workplace.

National attention has been made in recent years to the lack of services available to ethnic and racial minorities and the fact they experience disability in disproportionately greater numbers. Therefore, applicants are encouraged to design proposals to provide 50 percent or more of grant services to this group of people. Likewise, it is also known that less than 1 percent of SSI and SSDI beneficiaries are able to get off benefits and achieve self-sustaining employment in the workplace. Reliance on public supports is devastating personally to those limited to public resources for their livelihood and is also detrimental from a public fiscal policy perspective. Applicants are encouraged to include strategies that direct grant resources to training and employment services for SSI and/or SSDI participants.

Proposals must also provide the following planning information on the participants to be served in project design, in total and by project site:

• The number of participants,

• The age range of participants (e.g., under 22, 23-50, 51-65),

• The number of participants who receive Supplemental Security Income and/or Social Security Disability Income (SSI/SSDI),

• The number and percent of participants that will be qualified as dislocated workers.

Describe any innovations in the proposed project, including (but not limited to) innovations relating to the target population, delivery of services, training methods, job development, or job retention strategies. Describe new directions or approaches to address significant unemployment levels of people with disabilities. Explain how the proposed project:

(1) Will be applicable to disability issues of national scope;

(2) Is similar to or differs from the applicant's prior and current activities; and

(3) Does not duplicate existing employment and training programs.

Applicants may also provide other information about participants considered important such as educational level, and number of people of minority or ethnic diversity.

2. Outreach and Recruitment

Describe how outreach and recruitment addresses the overall design of the project. Outreach and recruitment may address public service announcements, use of media, use of community-based organizations, and other service groups. Identify how workforce development systems, disability consumer organizations, and the business community will be used in the recruitment process. Describe how the target population will be recruited for participation at each site.

3. Eligibility

Describe the eligibility process for project participants, including the process for determining whether a participant is an individual with a disability and those with a significant disability (see Definitions).

4. Assessment

Describe the process for evaluating participants' skills and education levels, career interests, accommodation requirements, training and services, and other barriers and needs. Narrative should identify whether assessment will be conducted by the awardee or another service provider. (Applicants should indicate whether and how the Test of Adult Basic Education (TABE) or an alternative assessment tool will be used to assess reading, mathematical skills, and other employment readiness skills to participate in this project, as applicable. Applicants should include how the project will address the remedial or preparatory training needs of the participants and how the project will address possible learning disabilities. Please note, the implementation of these assessments may require reasonable accommodation and use of Assistive Technology).

D. Management and Administration (20 points)

1. Management Structure

Describe the management structure for the proposed project. Applicants must provide a staffing plan showing each position and the percentage of time assigned to the project. Provide an organizational chart showing the relationship between the management and operational components of the project and the overall organization. Include staff and operations projected for the project. Include resumes of current key staff. For each of the key staff not identified at the time of application, provide a job description or the qualifications sought for the position. Specific information on staff and organizational structure may be provided in the Appendix.

2. Program Integrity and Public Accountability

Describe the mechanisms to be used to ensure financial and program accountability in record keeping and reporting. The design must demonstrate oversight of project implementation and progress benchmarks. Describe how the project will keep records of activities and satisfy the administrative requirements set out under 29 CFR parts 95—99, as applicable.

The design must include a comprehensive discussion describing in detail the types of information to be collected, methods and frequency of collections, and ways information will be used to implement and manage the program. The following must be covered:

(1) Program data collection and reporting systems to determine the achievement of project outcomes;

(2) Financial management systems to ensure fiscal accountability in accordance with statutory, regulatory, and contractual requirements;

(3) Communication processes and technology that will be utilized; and

(4) Administrative process for each project site.

3. Project Management

Awardee will be responsible for management and oversight of all activities under the grant. Identify the information on project performance and financial management to be collected on a short-term basis by project staff. Describe the process of on-site monitoring of each project site, including employer site visits, if applicable. Describe the processes and procedures to be used to obtain feedback from participants, employers, and any other appropriate parties on the responsiveness and effectiveness of the services provided.

4. Grievance Procedures

Describe the procedure to be used for grievances and complaints from participants, contractors, and other interested parties, consistent with requirements at 20 CFR part 667, subpart F.

5. Previous Project Management Experience

Provide objective evidence of the grant applicant's ability to manage this project, ensure the integrity of the grant funds, and deliver the proposed performance. Indicate the grant applicant's past management experience, particularly regarding oversight and operating functions including financial management and relevant audit or grant reviews of the organization. Provide references and/or contact persons of former or current funding organizations.

If applicant was a grantee of the U.S. Department of Labor's Disability Employment Grant program in prior years, then the applicant must include its participant outcomes and program performance from the previous period(s).

Part IV. Government Requirements

A. Reporting Requirements

Applicants receiving awards under this solicitation will be required to submit financial, program, and participant reports on a quarterly and annual basis. Grantees will be required to submit: (1) Activity and Placement Report (APR) on the number of participants being served, activities and services provided, and placement outcomes; and (2) Participant Characteristics Report (PCR) on age, race, type of disability, etc., of participants enrolled in the grantee's program. Narrative information on the grant program should be submitted quarterly with the APR. The narrative may include information on the status of project implementation, participant success stories during the reporting period, conferences or job fairs planned or held, meetings with employers related to placements, or other information of interest about the grant project. In addition to the APR and PCR, grantees are required to submit a Financial Status Report (FSR), SF 269. Report submissions to the ETA are quarterly for the APR and FSR, and annually for the PCR following the end of the Fiscal Year. The APR, PCR and FSR forms and related instructions can be downloaded from ETA's disAbility Online website at: http://wdsc.doleta.gov/disability (click on “Grantee Communication” to access these forms). Reports are due to ETA no later than 30 days after the last day of the report period.

B. Use of Federal Funds

Federal funds cannot be used to support activities that would be provided in the absence of these funds. Grant funds may cover only those costs that are appropriate and reasonable. Federal grant funds may only be used to acquire equipment that is necessary for the operation of the grant. Except as specifically provided, DOL/ETA acceptance of a proposal and an award of Federal funds to sponsor any program(s) does not provide a waiver of any grant requirements and/or procedures. For example, the OMB circulars require, and an entity's procurement procedures must require that all procurement transactions shall be conducted, as practical, to provide open and free competition. If a proposal identifies a specific entity to provide the services, the DOL/ETA's award does not provide the justification or basis to sole-source the procurement, i.e., avoid competition.

Grantees must comply with all applicable Federal statutes, regulations, administrative requirements and OMB Circulars. For example, OMB Circular A-122, which applies to nonprofit organizations, requires prior approval for certain capital expenditures to be allowable as direct costs.

Part V. Definitions

For the purpose of this demonstration project, WIA Title I definitions apply. The following definitions are provided for information or clarification of specified terms used in this SGA:

Assistive Technology—The term “assistive technology” means technology designed to be utilized in an assistive technology device or assistive technology service. (29 USCA 3002(a)(2), the Assistive Technology Act of 1998).

Assistive Technology Device—The term “assistive technology device” means any item, piece of equipment, or product system, whether acquired commercially, modified, or customized, that is used to increase, maintain, or improve functional capabilities of individuals with disabilities.

Assistive Technology Service—The term “assistive technology service” means any service that directly assists an individual with a disability in the selection, acquisition, or use of an assistive technology device. Such term includes—

(A) The evaluation of the assistive technology needs of an individual with a disability, including a functional evaluation of the impact of the provision of appropriate assistive technology and appropriate services to the individual in the customary environment of the individual;

(B) Services consisting of purchasing, leasing, or otherwise providing for the acquisition of assistive technology devices by individuals with disabilities;

(C) Services consisting of selecting, designing, fitting, customizing, adapting, applying, maintaining, repairing, or replacing assistive technology devices;

(D) Coordination and use of necessary therapies, interventions, or services with assistive technology devices, such as therapies, interventions, or services associated with education and rehabilitation plans and programs;

(E) Training or technical assistance for an individual with disabilities, or, where appropriate, the family members, guardians, advocates, or authorized representatives of such an individual; and

(F) Training or technical assistance for professionals (including individuals providing education and rehabilitation services), employers, or other individuals who provide services to, employ, or are otherwise substantially involved in the major life functions of individuals with disabilities.

Disability—See definition in section 3 of the Americans with Disabilities Act, (42 U.S.C. 12102(2)), and the requirements at 28 CFR 35.104.

Dislocated Worker—See definition in the Workforce Investment Act of 1998 section 101(9) which states that the term “dislocated worker” means any individual who—

(A)(i) Has been terminated or laid off, or who has received a notice of termination or layoff, from an employment;

(ii)(I) Is eligible for or has exhausted entitlement to unemployment compensation; or

(II) Has been employed for a duration sufficient to demonstrate, to the appropriate entity at a one-stop center referred to in section 134(c), attachment to the workforce, but is not eligible for unemployment compensation due to insufficient earnings or having performed services for an employer that were not covered under a State unemployment compensation law; and

(iii) Is unlikely to return to a previous industry or occupation;

(B)(i) Has been terminated or laid off, or has received a notice of termination or layoff, from employment as a result of any permanent closure of, or any substantial layoff of, a plan, facility, or enterprise;

(ii) Is employed at a facility at which the employer has made a general announcement that such a facility will close within 180 days; or

(iii) For purposes of eligibility to receive services other than training services described in section 134(d)(4), intensive services described in section 134(d)(3), or supportive services, is employed at a facility at which the employer has made a general announcement that such a facility will close;

(C) Was self-employed (including employment as a farmer, a rancher, or a fisherman) but is unemployed as a result of general economic conditions in the community in which the individual resides or because of natural disaster; or

(D) Is a displaced homemaker.

Displaced homemaker—The term “displaced homemaker” means an individual who has been providing unpaid services to family member in the home and who (A) has been dependent on the income of a family member but is no longer supported by that income; (B) is unemployed or underemployed and is experiencing difficulty in obtaining or upgrading employment.

Individual with a Disability—See definition in the Workforce Investment Act section 101(17) (29 U.S.C. 2801(17)) which states: (A) In general.—The term “individual with a disability” means an individual with any disability as defined in section 3 of the Americans with Disabilities Act of 1990 (42 U.S.C. 12102)). (B) Individuals with disabilities.—The term “individuals with disabilities” means more than one individual with a disability.

Individual with a Significant Disability—See definition pursuant to WIA Title IV, section 403, which amends section 6(21) of the Rehabilitation Act, 29 U.S.C. 705(21).

On-the-Job Training (OJT)—Training provided by an employer that is provided to a paid participant while engaged in productive work in a job that—

(A) Provides knowledge or skills essential to the full and adequate performance of the job;

(B) Provides reimbursement to the employer of up to 50 percent of the wage rate of the participant, for the extraordinary costs of providing the training and additional supervision related to the training; and

(C) Is limited in duration as appropriate to the occupation for which the participant is being trained, taking into account the content of the training, the prior work experience of the participant, and the service strategy of the participant, as appropriate (WIA section 101(31), 29 U.S.C. 2801(31)).

Unsubsidized/Competitive Employment—Non-grant or unsupported employment that includes, entry into the Armed Forces (including entry onto active duty from Reserve and National Guard units), entry into employment in a registered apprenticeship program, self-employment, etc. Employment performed on a full-time or part-time basis in an integrated setting in which wages/salaries are at or above the minimum wage. Employment with special wage provisions authorized under section 14(c) of the Fair Labor Standards Act (29 U.S.C. 214 and its implementing regulations at 29 CFR part 525) are not considered unsubsidized nor competitive for the purpose of this grant.

Work Experience (WE)—A planned, structured learning experience that takes place in a workplace for a limited period of time. Work experience may be paid or unpaid, as appropriate. A work experience workplace may be in the private for-profit sector, the non-profit sector, or the public sector. Labor standards apply in any work experience where an employee/employer relationship as defined by the Fair Labor Standards Act, exists (See 20 CFR 663.200(b)).

Signed at Washington, DC, this 2nd day of November 2001.
Lorraine H. Saunders,
Grant Officer, Office of Grants and Contract Management, Division of Federal Assistance.

Attachments

1. Appendix A—“Application for Federal Assistance” (Standard Form 424)

2. Appendix B—Budget Information Form

BILLING CODE 4510-30-P

[FR Doc. 01-27963 Filed 11-6-01; 8:45 am]

BILLING CODE 4510-30-C